ENVIRONMENTAL PROTECTION AGENCY

[FRL-8683-7]

Science Advisory Board Staff Office; EPA Clean Air Scientific Advisory Committee (CASAC); Notification of Public Advisory Committee Meetings (Teleconferences) of the CASAC Ambient Air Monitoring & Methods (AAMM) Subcommittee and the CASAC

AGENCY: Environmental Protection Agency (EPA).

ACTION: Notice.

SUMMARY: The Environmental Protection Agency (EPA or Agency) Science Advisory Board (SAB) Staff Office announces: A public advisory teleconference of the Ambient Air Monitoring & Methods (AAMM) Subcommittee (Subcommittee) of the Clean Air Scientific Advisory Committee (CASAC) to conduct a peer review of the proposed Federal Reference Method (FRM) for the measurement of lead (Pb) in particulate matter less than 10 micrometers in diameter (PM10) in ambient air, and a consultation concerning the need and approaches for the development of a low-volume ambient air monitor for Pb in total suspended particulate (TSP) FRM or Federal Equivalent Method (FEM); and a public teleconference of the chartered CASAC to review and approve the Subcommittee's report from its review of the Pb-PM10 FRM.

DATES: The Subcommittee will hold a public teleconference on Monday, July 14, 2008, from 1 p.m. to 5 p.m. (Eastern Time). The chartered CASAC will hold a public teleconference on Monday, August 18, 2008, from 1 p.m. to 4 p.m. (Eastern Time).

FOR FURTHER INFORMATION CONTACT: Any member of the public who wishes to obtain the teleconference call-in numbers and access codes; submit a written or brief oral statement (three minutes or less); or receive further information concerning these teleconference meetings, must contact Mr. Fred Butterfield, Designated Federal Officer (DFO). Mr. Butterfield may be contacted at the EPA Science Advisory Board (1400F), U.S. Environmental Protection Agency, 1200 Pennsylvania Avenue, NW., Washington, DC 20460; or via telephone/voice mail: 202-343-9994; fax: 202-233-0643; or e-mail at butterfield.fred@epa.gov. General information concerning the CASAC can be found on the EPA Web site at http://www.epa.gov/casac.

SUPPLEMENTARY INFORMATION: Background: The CASAC, which is composed of seven members appointed by the EPA Administrator, was established under section 109(d)(2) of the Clean Air Act(CAA or Act) (42 U.S.C. 7409) as an independent scientific advisory committee. The CASAC provides advice, information and recommendations on the scientific and technical aspects of issues related to air quality criteria and the National Ambient Air Quality Standards (NAAQS) under sections 108 and 109 of the Act. The CASAC is chartered under the Federal Advisory Committee Act (FACA), as amended, 5 U.S.C., App. The SAB Staff Office established the CASAC AAMM Subcommittee in 2004 as a standing subcommittee to provide the EPA Administrator, through the CASAC, with advice and recommendations, as necessary, on topical areas related to ambient air monitoring, methods and networks. The CASAC and the Subcommittee comply with the provisions of FACA and all appropriate SAB Staff Office procedural policies.

Section 109(d)(1) of the CAA requires that the Agency periodically review and revise, as appropriate, the air quality criteria and the NAAQS for the six “criteria” air pollutants, including lead. EPA initiated its current review of the NAAQS for lead in early 2005. In March 2008, the Subcommittee held a public teleconference meeting to conduct a consultation on technical issues relating to the ambient air monitoring of Pb-PM10, including options for the Lead NAAQS indicator, a draft Federal Reference Method (FRM) for Pb-PM10, lead monitoring network design, and sampling frequency. The CASAC's report to the EPA Administrator concerning this consultation (EPA-CASAC-08-010, dated April 14, 2008) is available on the EPA Web site at http://yosemite.epa.gov/sab/sabproduct.nsf/733B01113F8000AA8525742C005C478D/$File/EPA-CASAC-08-010-unsigned.pdf.

On May 20, 2008, EPA published in the Federal Register (FR 73 29184) its proposed rule for the revision of the NAAQS for Lead and associate lead-monitoring requirements. The proposed revisions included a proposed FRM for the measurement of Pb-PM10. In addition, the preamble requested public comments on the need and approaches for the development of a low-volume ambient air monitor for Pb in total suspended particulate (TSP) FRM or Federal Equivalent Method (FEM). The purpose of the July 14, 2008 public teleconference is for the Subcommittee to conduct a technical peer review on the proposed FRM for Pb-PM10 and to provide a consultation on the need for and approaches for development of a low-volume Pb-TSP FRM or FEM. The purpose of the August 18, 2008 public teleconference is for the chartered CASAC to review and approve the Subcommittee's draft report from its review of the Pb-PM10 FRM.

Technical Contacts: Any technical questions concerning the Agency's proposed FRM can be directed to Mr. Kevin Cavender, OAQPS, at phone: 919-541-2364, or e-mail cavender.kevin@epa.gov; or to Mr. Lewis Weinstock, OAQPS, at phone: 919-541-3661, or e-mail weinstock.lewis@epa.gov.

Availability of Meeting Materials: The draft FRM for Pb-PM10 that will be the subject of the peer review is contained in the Federal Register notice for the proposed rule (May 20, 2008, FR 73 29184). The Agency will post additional documents to be discussed during this consultation on the EPA Technology Transfer Network (TTN) Web page for the Lead NAAQS at http://www.epa.gov/ttn/naaqs/standards/pb/s_pb_cr_td.html. The meeting agenda and any other materials for the CASAC teleconferences will be posted on the EPA Web site at http://www.epa.gov/casac in advance of these teleconferences.

Procedures for Providing Public Input: Interested members of the public may submit relevant written or oral information for the CASAC AAMM Subcommittee or the CASAC to consider on the topics included in this advisory activity and/or the group conducting the activity. Oral Statements: In general, individuals or groups requesting an oral presentation at a public teleconference will be limited to three minutes per speaker, with no more than a total of 30 minutes for all speakers. To be placed on the list of public speakers for the Subcommittee's July 14, 2008 teleconference meeting, interested parties should contact Mr. Butterfield, DFO, in writing (preferably via e-mail), by July 7, 2008, at the contact information noted above. To be placed on the public speaker's list for the CASAC's August 18, 2008 teleconference meeting, interested parties should contact Mr. Butterfield by August 11, 2008. Written Statements: Written statements for the Subcommittee's July 14, 2008 teleconference meeting should be received in the SAB Staff Office by July 10, 2008, so that the information may be made available to the Subcommittee for its consideration prior to this teleconference. For the teleconference meeting of the chartered CASAC on August 18, 2008, statements should be received in the SAB Staff Office by August 14, 2008. Written statements should be supplied to the DFO electronically via e-mail (acceptable file formats: Adobe PDF, MS Word, WordPerfect, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: June 17, 2008.
Vanessa T. Vu,
Director, EPA Science Advisory Board Staff Office.

[FR Doc. E8-14107 Filed 6-20-08; 8:45 am]

BILLING CODE 6560-50-P